FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011962-009.

Title: Consolidated Chassis Management Pool Agreement.

Parties: The Ocean Carrier Equipment Management Association and its member lines; the Association's subsidiary Consolidated Chassis Management LLC and its affiliates; CCM Holdings LLC; CCM Pools LLC and its subsidiaries; Matson Navigation Co.; and Westwood Shipping Lines.

Filing Party: Jeffrey F. Lawrence, Esq.; Cozen O'Conner; 1627 I Street NW., Suite 1100; Washington, DC 20006-4007.

Synopsis: The amendment would revise the agreement to expand participation on the CCMP Governing Board and pool boards, and clarify that a majority of members on such boards shall be OCEMA members. The amendment would also delete Crowley Maritime Corporation, Crowley Latin America Services, LLC and Crowley Caribbean Services, LLC as parties, and change the name of CCM affiliate CCM Holdings LLC to Consolidated Chassis Enterprises LLC.

Agreement No.: 012193-000.

Title: Siem Car Carrier Pacific AS/Compania Sud Americana de Vapores S.A. Space Charter Agreement.

Parties: Siem Car Carrier Pacific AS and Compania Sud Americana de Vapores S.A.

Filing Party: Ashley W. Craig Esq.; Venable LLP; 575 Seventh Street NW., Washington, DC 20004.

Synopsis: The agreement authorizes the parties engage in a limited range of cooperative activities, including but not limited to, vessel space chartering in the trade between the U.S. West Coast on the one hand, and China, Japan and Korea on the other hand.

By Order of the Federal Maritime Commission.
Dated: January 25, 2013.
Rachel Dickon,
Assistant Secretary.

[FR Doc. 2013-01994 Filed 1-29-13; 8:45 am]

BILLING CODE 6730-01-P